DEPARTMENT OF ENERGY

Federal Energy Regulatory Commission

[Docket No. AD05-13-000]

Joint Boards on Security; Constrained Economic Dispatch; Notice Announcing Joint Board Meetings

January 6, 2006.

On September 30, 2005, the Commission issued an order convening regional joint boards ¹ pursuant to section 1298 of the Energy Policy Act of 2005,² which added section 223 to the Federal Power Act (FPA).³ FPA section 223 requires the Commission to convene joint boards on a regional basis pursuant to FPA section 209 “to study the issue of security constrained economic dispatch for the various market regions,” “to consider issues relevant to what constitutes ‘security constrained economic dispatch’ and how such a mode of operating * * * affects or enhances the reliability and affordability of service,” and “to make recommendations to the Commission.” Initial joint board meetings were held in November 2005.⁴

¹ Joint Boards on Security Constrained Economic Dispatch, 112 FERC ¶ 61,353 (2005) (September 30 Order).

² Public Law No. 109-58, § 1298, 119 Stat. 594, 986 (2005).

³ 16 U.S.C. 824 et seq. (2000).

⁴ Notices concerning the initial joint board meetings were issued on October 14, 21 and 27, 2005, and on November 9, 16 and 18, in accordance with the September 30 Order.

Take notice that further joint board meetings will be held at the Hyatt Regency on Capitol Hill, 400 New Jersey Avenue, NW., in Washington DC. The schedule for the meetings is:

South region—Sunday, February 12, 2006—9:30 a.m. to 12 p.m.

PJM/MISO region—Sunday, February 12, 2006—12:30 p.m. to 3 p.m.

West region Monday, February 13, 2006—9:45 a.m. to 12:15 p.m.

Northeast region—Monday, February 13, 2006—9:45 a.m. to 12:15 p.m.

These meeting are open to the public. Additional details regarding these meetings, if any, will be announced in supplemental notices in this docket and posted on the Commission's Web site at http://www.ferc.gov.

Take further notice that Commissioner Samuel J. Ervin, IV of North Carolina is now serving as Vice Chair of the Joint Board for the South region.

A free webcast of the meetings announced above is available through http://www.ferc.gov. Anyone with Internet access who desires to view this event can do so by navigating to http://www.ferc.gov's Calendar of Events and locating this event in the Calendar. The event will contain a link to its webcast. The Capitol Connection provides technical support for the webcasts. It also offers access to this event via television in the DC area and via phone bridge for a fee. If you have any questions, visit http://www.CapitolConnection.org or contact Danelle Perkowski or David Reininger at 703-993-3100.

Transcripts of the meeting will be immediately available for a fee from Ace Reporting Company (202-347-3700 or 1-800-336-6646). They will be available for free on the Commission's eLibrary system seven calendar days after FERC receives the transcript.

For more information about the meeting, please contact Sarah McKinley at 202-502-8004 or sarah.mckinley@ferc.gov.

Magalie R. Salas,
Secretary.

[FR Doc. E6-288 Filed 1-12-06; 8:45 am]

BILLING CODE 6717-01-P